DEPARTMENT OF COMMERCE

National Oceanic and Atmospheric Administration

[I.D. 072506A]

Endangered and Threatened Species; Take of Anadromous Fish

AGENCY: National Marine Fisheries Service (NMFS), National Oceanic and Atmospheric Administration (NOAA), Commerce.

ACTION: Issuance of scientific research permits.

SUMMARY: Notice is hereby given that NMFS has issued Permit 1047 - Modification 1 to Marin Municipal Water District (MMWD) in Corte Madera, CA; Permit 1079 - Modification 2 to Campbell Timberland Management, LLC. (CTM) in Fort Bragg, CA; Permit 1162 - Modification 3 to Salmon Protection and Watershed Network (SPAWN) in Forest Knolls, CA; and Permit 1181 - Modification 1 to Mendocino Redwood Company, LLC. (MRC) in Fort Bragg, CA.

ADDRESSES: The applications, permits, and related documents are available for review by appointment at: Protected Resources Division, NMFS, 777 Sonoma Avenue, Room 315, Santa Rosa, CA 95404 (ph: 707-575-6097, fax: 707-578-3435, e-mail: Jeffrey.Jahn@noaa.gov).

FOR FURTHER INFORMATION CONTACT: Jeffrey Jahn at phone number 707-575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Species Covered in This Notice

This notice is relevant to federally threatened Southern Oregon/Northern California Coast coho salmon (Oncorhynchus kisutch), endangered Central California Coast coho salmon (O. kisutch), threatened California Coastal Chinook salmon (O. tshawytscha), threatened Northern California steelhead (O. mykiss), and threatened Central California Coast steelhead (O. mykiss).

Permits Issued

Permit 1047 - Modification 1 was issued to MMWD on July 11, 2006, authorizing capture (by electrofishing or rotary screw trap), handling, sampling (by collection of scales or fin clips), marking (using fin clips or fin dye), and release of juvenile Central California Coast coho salmon, California Coastal Chinook salmon, and Central California Coast steelhead. Permit 1047 Modification 1 also authorizes MMWD to capture, handle, sample (by collection of scales, fin clips, or other tissue), mark, and release adult carcasses of Central California Coast coho salmon, California Coastal Chinook salmon, and Central California Coast steelhead. Permit 1047 - Modification 1 is for research to be conducted in the Walker Creek and Lagunitas Creek watersheds in Marin County, California. Permit 1047 - Modification 1 does not authorize take of live adult ESA-listed salmonids or intentional lethal take of ESA-listed salmonids. Permit 1047 - Modification 1 authorizes unintentional lethal take of juvenile ESA-listed salmonids associated with research activities not to exceed 5 percent of ESA-listed salmonids captured. The purpose of the research is to provide scientific data on ESA-listed salmonid populations and salmonid habitat and assist MMWD in assessing the effects of water diversion practices on ESA-listed salmonids. Permit 1047 Modification 1 expires on June 30, 2011.

Permit 1079 Modification 2 was issued to CTM on July 14, 2006, authorizing capture (by electrofishing), handling, and release of juvenile Southern Oregon/Northern California Coasts coho salmon, Central California Coast coho salmon, and Northern California steelhead. Permit 1079 Modification 2 is for research to be conducted in numerous watersheds on CTM managed property in Mendocino County, California, including: South Fork Eel River, Usal Creek, Dehaven Creek, Wages Creek, Abalobadiah Creek, Ten Mile River, Pudding Creek, Noyo River, Big River, and Big Salmon Creek. Permit 1079 Modification 2 does not authorize take of live adult ESA-listed salmonids or intentional lethal take of ESA-listed salmonids. Permit 1079 Modification 2 authorizes unintentional lethal take of juvenile ESA-listed salmonids associated with research activities not to exceed 2 percent of ESA-listed salmonids captured. The purpose of the research is to provide scientific data on ESA-listed salmonid populations and salmonid habitat and assist CTM in assessing the effects of timber harvest practices on ESA-listed salmonids. Permit 1079 Modification 2 expires on November 30, 2011.

Permit 1162 Modification 3 was issued to SPAWN on July 11, 2006, authorizing capture (by dip-net, pipe-trap, or funnel-trap), handling, sampling (by collection of fin clips), marking (using fin clips or fin dye), and release of juvenile Central California Coast coho salmon and Central California Coast steelhead. Permit 1162 Modification 3 also authorizes SPAWN to capture, handle, sample (by collection of scales, fin clips, or other tissue), mark, and release adult carcasses of Central California Coast coho salmon, California Coastal Chinook salmon, and Central California Coast steelhead. Permit 1162 Modification 3 is for research to be conducted in the Lagunitas Creek and San Geronimo Creek watersheds in Marin County, California. Permit 1162 Modification 3 does not authorize take of live adult ESA-listed salmonids or intentional lethal take of ESA-listed salmonids. Permit 1162 Modification 3 authorizes unintentional lethal take of juvenile ESA-listed salmonids associated with research activities not to exceed 3 percent of ESA-listed salmonids captured. The purpose of the research is to provide scientific data on ESA-listed salmonid populations, distribution, and salmonid habitat. The research will also result in the rescue and relocation of juvenile ESA-listed salmonids that are under an imminent threat of mortality from stranding in drying streams. Permit 1162 Modification 3 expires on June 30, 2011.

Permit 1181 Modification 1 was issued to MRC on July 14, 2006, authorizing capture (by electrofishing or rotary screw trap), handling, sampling (by collection of fin clips), and release of juvenile Southern Oregon/Northern California Coasts coho salmon, Central California Coast coho salmon, Northern California steelhead, and Central California Coast steelhead. Permit 1181 Modification 1 also authorizes MRC to capture, handle, mark, and release adult carcasses of Southern Oregon/Northern California Coasts coho salmon, Central California Coast coho salmon, California Coastal Chinook salmon, and Northern California steelhead. Permit 1181 Modification 1 is for research to be conducted in numerous watersheds on MRC property ranging from Hollow Tree Creek (a tributary to the South Fork Eel River) in Mendocino County, California, south to the Russian River and Gualala River in Sonoma County, California. Permit 1181 Modification 1 does not authorize take of live adult ESA-listed salmonids or intentional lethal take of ESA-listed salmonids. Permit 1181 Modification 1 authorizes unintentional lethal take of juvenile ESA-listed salmonids associated with research activities not to exceed 3.5 percent of ESA-listed salmonids captured. The purpose of the research is to provide scientific data on ESA-listed salmonid populations and salmonid habitat and assist MRC in assessing the effects of timber harvest practices on ESA-listed salmonids. Permit 1181 Modification 1 expires on November 30, 2011.

Dated: August 1, 2006.
Angela Somma,
Chief, Endangered Species Division, Office of Protected Resources, National Marine Fisheries Service.

[FR Doc. E6-12753 Filed 8-4-06; 8:45 am]

BILLING CODE 3510-22-S